FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Financial Statements for Holding Companies (FR Y-9 Reports; OMB No. 7100-0128).

DATES: Comments must be submitted on or before November 25, 2019.

ADDRESSES: You may submit comments, identified by FR Y-9 Reports by any of the following methods:

• Agency Website: https://www.federalreserve.gov/. Follow the instructions for submitting comments at https://www.federalreserve.gov/apps/foia/proposedregs.aspx.

• Email: regs.comments@federalreserve.gov. Include the OMB number in the subject line of the message.

• FAX: (202) 452-3819 or (202) 452-3102.

• Mail: Ann E. Misback, Secretary, Board of Governors of the Federal Reserve System, 20th Street and Constitution Avenue NW, Washington, DC 20551.

All public comments are available from the Board's website at https://www.federalreserve.gov/apps/foia/proposedregs.aspx as submitted, unless modified for technical reasons or to remove personally identifiable information at the commenter's request. Accordingly, comments will not be edited to remove any identifying or contact information. Public comments may also be viewed electronically or in paper in Room 146, 1709 New York Avenue NW, Washington, DC 20006, between 9:00 a.m. and 5:00 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer—Shagufta Ahmed—Office of Information and Regulatory Affairs, Office of Management and Budget, New Executive Office Building, Room 10235, 725 17th Street NW, Washington, DC 20503, or by fax to (202) 395-6974.

FOR FURTHER INFORMATION CONTACT: A copy of the Paperwork Reduction Act (PRA) OMB submission, including the reporting form and instructions, supporting statement, and other documentation will be placed into OMB's public docket files, if approved. These documents will also be made available on the Board's public website at https://www.federalreserve.gov/apps/reportforms/review.aspx or may be requested from the agency clearance officer, whose name appears below.

Federal Reserve Board Clearance Officer—Nuha Elmaghrabi—Office of the Chief Data Officer, Board of Governors of the Federal Reserve System, Washington, DC 20551, (202) 452-3829.

SUPPLEMENTARY INFORMATION: On June 15, 1984, OMB delegated to the Board authority under the PRA to approve and assign OMB control numbers to collections of information conducted or sponsored by the Board. In exercising this delegated authority, the Board is directed to take every reasonable step to solicit comment. In determining whether to approve a collection of information, the Board will consider all comments received from the public and other agencies.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Report Title: Financial Statements for Holding Companies.

Agency form number: FR Y-9C, FR Y-9LP, FR Y-9SP, FR Y-9ES, and FR Y-9CS.

OMB control number: 7100-0128.

Frequency: Quarterly, semiannually, and annually.

Respondents: Bank holding companies, savings and loan holding companies, securities holding companies, and U.S. intermediate holding companies (collectively, HCs).

Estimated number of respondents: FR Y-9C (non-advanced approaches HCs with less than $5 billion in total assets): 155; FR Y-9C (non-advanced approaches HCs with $5 billion or more in total assets: 188; FR Y-9C (advanced approaches HCs): 20; FR Y-9LP: 434; FR Y-9SP: 3,960; FR Y-9ES: 83; FR Y-9CS: 236.

Estimated average hours per response:

Reporting

FR Y-9C (non-advanced approaches HCs with less than $5 billion in total assets): 40.48 hours; FR Y-9C (non-advanced approaches HCs with $5 billion or more in total assets): 46.34 hours; FR Y-9C (advanced approaches HCs): 47.59 hours; FR Y-9LP: 5.27 hours; FR Y-9SP: 5.40 hours; FR Y-9ES: 0.50 hours; FR Y-9CS: 0.50 hours.

Recordkeeping

FR Y-9C (non-advanced approaches HCs with less than $5 billion in total assets), FR Y-9C (non-advanced approaches HCs with $5 billion or more in total assets), FR Y-9C (advanced approaches HCs), and FR Y-9LP: 1.00 hours; FR Y-9SP, FR Y-9ES, and FR Y-9CS: 0.50 hours.

Estimated annual burden hours:

Reporting

FR Y-9C (non-advanced approaches HCs with less than $5 billion in total assets): 25,098 hours; FR Y-9C (non-advanced approaches HCs with $5 billion or more in total assets): 34,848 hours; FR Y-9C (advanced approaches HCs): 3,807 hours; FR Y-9LP: 9,149 hours; FR Y-9SP: 42,768; FR Y-9ES: 42 hours; FR Y-9CS: 472 hours.

Recordkeeping

FR Y-9C (non-advanced approaches HCs with less than $5 billion in total assets): 620 hours; FR Y-9C (non-advanced approaches HCs with $5 billion or more in total assets): 752 hours; FR Y-9C (advanced approaches HCs): 80 hours; FR Y-9LP: 1,736 hours; FR Y-9SP: 3,960 hours; FR Y-9ES: 42 hours; FR Y-9CS: 472 hours.

General description of report:

The FR Y-9C consists of standardized financial statements similar to the Call Reports filed by commercial banks.¹ The FR Y-9C collects consolidated data from HCs and is filed quarterly by top-tier HCs with total consolidated assets of $3 billion or more.²

¹ The Call Reports consist of the FFIEC 051, as well as the Consolidated Reports of Condition and Income for a Bank with Domestic Offices Only (FFIEC 041) and the Consolidated Reports of Condition and Income for a Bank with Domestic and Foreign Offices (FFIEC 031).

² Under certain circumstances described in the FR Y-9C's General Instructions, HCs with assets under $3 billion may be required to file the FR Y-9C.

The FR Y-9LP, which collects parent company only financial data, must be submitted by each HC that files the FR Y-9C, as well as by each of its subsidiary HCs.³ The report consists of standardized financial statements.

³ A top-tier HC may submit a separate FR Y-9LP on behalf of each of its lower-tier HCs.

The FR Y-9SP is a parent company only financial statement filed semiannually by HCs with total consolidated assets of less than $3 billion. In a banking organization with total consolidated assets of less than $3 billion that has tiered HCs, each HC in the organization must submit, or have the top-tier HC submit on its behalf, a separate FR Y-9SP. This report is designed to obtain basic balance sheet and income data for the parent company, as well as data on its intangible assets and intercompany transactions.

The FR Y-9ES is filed annually by each employee stock ownership plan (ESOP) that is also an HC. The report collects financial data on the ESOP's benefit plan activities. The FR Y-9ES consists of four schedules: A Statement of Changes in Net Assets Available for Benefits, a Statement of Net Assets Available for Benefits, Memoranda, and Notes to the Financial Statements.

The FR Y-9CS is a free-form supplemental report that the Board may utilize to collect critical additional data deemed to be needed in an expedited manner from HCs. The data are used to assess and monitor emerging issues related to HCs, and the report is intended to supplement the other FR Y-9 reports. The data items included on the FR Y-9CS may change as needed.

Proposed revisions:

FR Y-9C Revisions

The Board has determined it no longer needs certain FR Y-9C items from financial institutions with less than $5 billion in total assets. The Board proposes to reduce burden on these financial institutions by adding new and revised reporting thresholds, reducing the reporting frequency for certain items and schedules from quarterly to semiannually or annually, and combining certain items. These revisions would be consistent with recent and proposed reporting changes to the Call Report. The proposed revisions are as follows:

New and Revised Reporting Thresholds

The Board proposes to add a reporting threshold of $5 billion or more in total assets,⁴ below which HCs would not be required to complete the following data items:

⁴ The $5 billion asset threshold is based on total assets as reported for the previous June 30th report date.

• Schedule HI, data item 1(e), Interest income from trading assets;

• Schedule HI, data item 2(c), Interest on trading liabilities and other borrowed money;

• Schedule HI, data item 2(d), Interest on subordinated notes and debentures and on mandatory convertible securities;

• Schedule HI, data item 5(c), Trading revenue;

• Schedule HI, data item 5(e), Venture capital revenue;

• Schedule HI, data item 5(g), Net securitization income;

• Schedule HI, Memo item 1, Net interest income on a fully taxable equivalent basis;

• Schedule HI, Memo item 2, Net income before applicable income taxes, and discontinued operations;

• Schedule HI, Memo items 8.a.(1) through 8.b.(2), Discontinued operations and applicable income tax effect;

• Schedule HI, Memo items 9(a) through 9(e), details pertaining to trading revenue;

• Schedule HI, Memo item 11, Credit losses on derivatives;

• Schedule HI, Memo items 12(a) through 12(c), detail pertaining to Income from the sale and servicing of mutual funds and annuities (in domestic offices);

• Schedule HI, Memo items 14(a) through 14(b)(1), details pertaining to net gains (losses) recognized in earnings on assets and liabilities that are reported at fair value under a fair value option;

• Schedule HI, Memo item 15, Stock-based employee compensation expense (net of tax effects) calculated for all awards under the fair value method;

• Schedule HI-B, Part I, data item 6, columns A and B, Loans to foreign governments and official institutions;

• Schedule HI-B, Part I, Memo item 2, columns A and B, Loans secured by real estate to non-U.S. addressees;

• Schedule HI-B, Part I, Memo item 3, Uncollectible retail credit card fees and finance charges reversed against income;

• Schedule HI-B, Part II, Memo item 1, Allocated transfer risk reserve;

• Schedule HI-B, Part II, Memo item 2, Separate valuation allowance for uncollectible retail credit card fees and finance charges;

• Schedule HI-B, Part II, Memo item 3, Amount of allowance for loan and lease losses attributable to retail credit card fees and finance charges;

• Schedule HI-B, Part II, Memo item 4, Amount of allowance for post-acquisition credit losses on purchased credit-impaired loans;

• Schedule HI-C, Disaggregated Data on the Allowance for Loan and Lease Losses

• Schedule HC-C, data item 10(a), Leases to individuals for household, family, and other personal expenditures;

• Schedule HC-C, data item 10(b), All other leases;

• Schedule HC-C, Memo item 3, Loans secured by real estate to non-U.S. addressees;

• Schedule HC-C, Memo item 4, Outstanding credit card fees and finance charges;

• Schedule HC-D, Trading Assets and Liabilities; ⁵

⁵ Currently, Schedule HC-D must be completed by holding companies with total trading assets of $10 million or more in any of the four preceding calendar quarters. The Board proposes to modify the existing threshold by adding a reporting threshold of $5 billion or more in total assets.

• Schedule HC-K, data item 4(a), Trading assets;

• Schedule HC-L, data items 1(b)(1), Unused consumer credit card lines, and 1(b)(2), Other unused credit card lines;

• Schedule HC-L, data item 1(d), Securities underwriting;

• Schedule HC-L, data item 2(a), Amount of financial standby letters of credit conveyed to others;

• Schedule HC-L, data item 3(a), Amount of performance standby letters of credit conveyed to others;

• Schedule HC-L, data items 7(a) through 7(d)(2)(b), pertaining to credit derivatives;

• Schedule HC-L, data items 11(a) through 14(b)(2), pertaining to derivatives positions;

• Schedule HC-M, Memo items 6(a)(1)(a)(1) though 6(d), pertaining to assets covered by loss-sharing agreements with the Federal Deposit Insurance Corporation (FDIC);

• Schedule HC-N, data items 12(a)(1)(a) through 12(f), pertaining to loans and leases which are covered by loss-sharing agreements with the FDIC;

• Schedule HC-N, Memo item 6, Fair value of derivative contract amounts carried as assets; ⁶

⁶ Currently, this item must be completed by holding companies with total assets of $1 billion or more, or with $2 billion or more in par/notional amounts of off-balance-sheet derivative contracts. The Board proposes to increase the reporting threshold from $1 billion to $5 billion or more in total assets.

• Schedule HC-P, 1-4 Family Residential Mortgage Banking Activities in Domestic Offices;

• Schedule HC-Q, Assets and Liabilities Measured at Fair Value;

• Schedule HC-S, Servicing, Securitization, and Asset Sale Activities; and

• Schedule HC-V, Variable Interest Entities.

Reduced Reporting Frequencies

For HCs with less than $5 billion in total assets, the Board proposes to reduce the reporting frequency from quarterly to semi-annually (June and December reporting) for the following items:

• Schedule HI, Memo item 17, Other-than-temporary impairment losses on held-to-maturity and available-for-sale debt securities recognized in earnings;

• Schedule HI-C, Disaggregated Data on the Allowance for Credit Losses; ⁷

⁷ In June 2016, the Financial Accounting Standard Board (FASB) issued Accounting Standard Update 2016-13 (ASU 2016-13), which introduced the current expected credit loss methodology for estimating allowances for credit losses. In response to ASU 2016-13, the Board added Schedule HI-C Part II, Disaggregated Data on Allowances for Credit Losses, to capture disaggregated data on allowances for credit losses and held-to-maturity securities from HCs that have adopted ASU 2016-13, effective, March 31, 2019. See 83 FR 63870 (December 12, 2018). The Board is proposing to add a semiannual reporting frequency for Schedule HI-C, Part II for HCs with less than $5 billion in total assets. For HCs with less than $5 billion in total assets that have not adopted ASU 2016-13, the Board proposes to collect the recorded investment instead of the amortized cost and collect the allowance balance on loans and leases held for investment, on Schedule HI-C Part II data items 1-6, on a semiannual basis. HCs with less than $5 billion in total assets that have adopted ASU 2016-13, should report the amortized cost and allowance balance for credit losses on held-to-maturity securities on Schedule HI-C, Part II data items 1-6 and the allowance balance on held-to-maturity securities on data items 7-11, semi-annually. The proposed changes become effective September 2019, and are reportable starting in December 2019. The Board believes that semi-annual information on the composition of the allowance for credit losses in relation to the amortized cost for each loan category, and disaggregated information on HTM securities allowances, is sufficient to support the Board's analysis of the allowance and credit risk management. The data on allowance allocations by loan category, when reviewed in conjunction with the past due and nonaccrual data reported by loan category in Schedule HC-N, which will continue to be reported on a quarterly basis, assist the staff in assessing a HC's credit risk exposures and evaluating the appropriateness of the overall level of its Allowance for Loan and Lease Losses and its allocations by loan category. If changes in the quarterly past due and nonaccrual data by loan category at individual HCs in quarters when the disaggregated allowance data would not be reported in the FR Y-9C raise questions about the composition of the allowance, supervisory follow-up can be undertaken on a case-by-case basis.

• Schedule HC-C, Memo items 1(a)(1) through 1(f)(3)(c) pertaining to loans restructured in troubled debt restructurings that are in compliance with their modified terms;

• Schedule HC-N, Memo items 1(a)(1) through 1(f)(3)(c) pertaining to loans restructured in troubled debt restructurings that are in compliance with their modified terms;

• Schedule HC-R, Part II, items 1 through 25, columns A through U; ⁸

⁸ In these items, HCs currently report detailed information about the risk-weighting of various types of assets and other exposures under the Federal Reserve's' regulatory capital rules. HCs still would need to calculate risk-weighted assets, maintain appropriate documentation for this calculation, and report items 26 through 31 of Part II, if applicable, on a quarterly basis. The Federal Reserve does not believe it is necessary for HCs to continue to provide the details of their risk-weighting allocations and calculations in Schedule HC-R, Part II, on a quarterly basis as the Federal Reserve can adequately review regulatory capital calculations for the first and third calendar quarters as part of on-site examinations or through other types of periodic monitoring, as necessary.

• Schedule HC-R, Part II, Memorandum items 1 through 3, all subitems, columns A through G.⁹

⁹ HCs currently report detailed information in these items about derivative exposures that are elements of the risk-weighting process for these exposures. The Board does not believe it is necessary for a HC with less than $5 billion in total assets to continue to report these amounts on a quarterly basis. Generally, HCs with less than $5 billion in total assets do not have a significant amount of derivatives contracts, and the Board can review information about HCs' risk-weighting calculations for derivative exposures for the first and third calendar quarters, as necessary, as part of on-site examinations or through other periodic monitoring.

In addition, for HCs with less than $5 billion in total assets, the Board proposes to reduce the reporting frequency from quarterly to annually on a calendar year-to-date basis in the December report only for the following items:

• Schedule HI, Memo items 6(a) through 6(j), Other noninterest income;

• Schedule HI, Memo items 7(a) though 7(p), Other noninterest expense; and

• Schedule HI, Memo item 16, Noncash income from negative amortization on closed-end loans secured by 1-4 family residential properties.

Combined Data Items

For HCs with less than $5 billion in total assets, the Board proposes to combine certain data items,¹⁰ all reportable on a quarterly basis, as follows:

¹⁰ HCs with less than $5 billion in total assets would report only the newly combined data items. HCs with $5 billion or more in total assets would continue to report only the currently existing data items.

• Combine information currently reported in Schedule HI data items 5(d)(1) through 5(d)(5), pertaining to various fees and commissions on securities brokerage investments, investment banking and insurance, into new data items 5(d)(6) and 5(d)(7);

• Combine information currently reported in Schedule HI-B Part I, data items 4(a) and 4(b), columns A and B, pertaining to commercial and industrial loans, into new data item 4(c), columns A and B;

• Combine information currently reported in Schedule HI-B Part I, data items 8(a) and 8(b), columns A and B, pertaining to lease finance receivables, into new data item 8(c), columns A and B;

• Combine information currently reported in Schedule HC-B, data items 4(a)(1) through 4(a)(3), columns A through D, pertaining to residential pass-through securities, into new item 4(a)(4), columns A through D;

• Combine information currently reported in Schedule HC-C, data items 4(a) and 4(b), column A, pertaining to commercial and industrial loans, into new data item 4(c), column A;

• Combine information currently reported in Schedule HC-C, data items 9(b)(1) and 9(b)(2), column A and B, pertaining to loans for purchasing or carrying securities and all other loans, into new data item 9(b)(3), columns A and B;

• Combine information currently reported in Schedule HC-C, data items 10(a) and 10(b), column A, pertaining to lease financing receivables (net of unearned income), into new data item 10(c), column A;

• Combine information currently reported in Schedule HC-C, Memo items 1(e)(1) and 1(e)(2), pertaining to commercial and industrial loans, into new memo item (1)(e)(3);

• Combine information currently reported in Schedule HC-C, Memo items 12(a) though 12(d), pertaining to loans (not subject to the requirements of FASB ASC 310-30 (former AICPA Statement of Position 03-3)) and leases held for investment that are acquired in business combinations with acquisition dates in the current calendar year, into new memo item 12(e);

• Combine information currently reported in Schedule HC-N, data items 8(a) and 8(b), columns A, B and C, pertaining to leases financing receivables, into new data item 8(c), columns A, B and C; and

• Combine information currently reported in Schedule HC-N, Memo items 1(e)(1) and 1(e)(2), columns A, B and C, pertaining to commercial and industrial loans, into new memo item 1(e)(3), columns A, B and C.

Recordkeeping Requirements

The instructions to the FR Y-9C, FR Y-9LP, FR Y-9SP, and FR Y-9ES state that respondents must maintain in their files a manually signed and attested printed copy of the data submitted on the form, and should retain workpapers and other records used in the preparation of those reports. The Board is proposing to revise the FR Y-9 information collection to account for these recordkeeping provisions, which are not currently accounted for.

Legal authorization and confidentiality: The Board has the authority to impose the reporting and recordkeeping requirements associated with the Y-9 family of reports on bank holding companies (“BHCs”) pursuant to section 5 of the Bank Holding Company Act (“BHC Act”), (12 U.S.C. 1844); on savings and loan holding companies pursuant to section 10(b)(2) and (3) of the Home Owners' Loan Act, (12 U.S.C. 1467a(b)(2) and (3)), as amended by sections 369(8) and 604(h)(2) of the Dodd-Frank Wall Street and Consumer Protection Act (“Dodd-Frank Act”); on U.S. intermediate holding companies (“U.S. IHCs”) pursuant to section 5 of the BHC Act, (12 U.S.C 1844), as well as pursuant to sections 102(a)(1) and 165 of the Dodd-Frank Act, (12 U.S.C. 511(a)(1) and 5365)¹¹; and on securities holding companies pursuant to section 618 of the Dodd-Frank Act, (12 U.S.C. 1850a(c)(1)(A)). The obligation to submit the FR Y-9 series of reports, and the recordkeeping requirements set forth in the respective instructions to each report, are mandatory.

¹¹ Section 165(b)(2) of Title I of the Dodd-Frank Act, (12 U.S.C. 5365(b)(2)), refers to “foreign-based bank holding company.” Section 102(a)(1) of the Dodd-Frank Act, (12 U.S.C. 5311(a)(1)), defines “bank holding company” for purposes of Title I of the Dodd-Frank Act to include foreign banking organizations that are treated as bank holding companies under section 8(a) of the International Banking Act, (12 U.S.C. 3106(a)). The Board has required, pursuant to section 165(b)(1)(B)(iv) of the Dodd-Frank Act, (12 U.S.C. 5365(b)(1)(B)(iv)), certain foreign banking organizations subject to section 165 of the Dodd-Frank Act to form U.S. intermediate holding companies. Accordingly, the parent foreign-based organization of a U.S. IHC is treated as a BHC for purposes of the BHC Act and section 165 of the Dodd-Frank Act. Because Section 5(c) of the BHC Act authorizes the Board to require reports from subsidiaries of BHCs, section 5(c) provides additional authority to require U.S. IHCs to report the information contained in the FR Y-9 series of reports.

With respect to the FR Y-9C report, Schedule HI's item 7(g) “FDIC deposit insurance assessments,” Schedule HC-P's item 7(a) “Representation and warranty reserves for 1-4 family residential mortgage loans sold to U.S. government agencies and government sponsored agencies,” and Schedule HC-P's item 7(b) “Representation and warranty reserves for 1-4 family residential mortgage loans sold to other parties” are considered confidential commercial and financial information. Such treatment may be appropriate under exemption 4 of the Freedom of Information Act (“FOIA”), (5 U.S.C. 552(b)(4)), because these data items reflect commercial and financial information that is both customarily and actually treated as private by the submitter, and which the Board has previously assured submitters will be treated as confidential. It also appears that disclosing these data items may reveal confidential examination and supervisory information, and in such instances, this information may also be withheld pursuant to exemption 8 of the FOIA, (5 U.S.C. 552(b)(8)), which protects information related to the supervision or examination of a regulated financial institution.

In addition, for both the FR Y-9C report and the FR Y-9SP report, Schedule HC's memorandum item 2.b., the name and email address of the external auditing firm's engagement partner, is considered confidential commercial information and protected by exemption 4 of the FOIA, (5 U.S.C. 552(b)(4)), if the identity of the engagement partner is treated as private information by HCs. The Board has assured respondents that this information will be treated as confidential since the collection of this data item was proposed in 2004.

Aside from the data items described above, the remaining data items on the FR Y-9C report and the FR Y-9SP report are generally not accorded confidential treatment. The data items collected on FR Y-9LP, FR Y-9ES, and FR Y-9CS¹² reports, are also generally not accorded confidential treatment. As provided in the Board's Rules Regarding Availability of Information (12 CFR part 261), however, a respondent may request confidential treatment for any data items the respondent believes should be withheld pursuant to a FOIA exemption. The Board will review any such request to determine if confidential treatment is appropriate, and will inform the respondent if the request for confidential treatment has been denied.

¹² The FR Y-9CS is a supplemental report that may be utilized by the Board to collect additional information that is needed in an expedited manner from HCs. The information collected on this supplemental report is subject to change as needed. Generally, the FR Y-9CS report is treated as public. However, where appropriate, data items on the FR Y-9CS report may be withheld under exemptions 4 and/or 8 of the Freedom of Information Act, (5 U.S.C. 552(b)(4) and (8)).

To the extent the instructions to the FR Y-9C, FR Y-9LP, FR Y-9SP, and FR Y-9ES reports each respectively direct the financial institution to retain the workpapers and related materials used in preparation of each report, such material would only be obtained by the Board as part of the examination or supervision of the financial institution. Accordingly, such information may be considered confidential pursuant to exemption 8 of the FOIA. (5 U.S.C. 552(b)(8)). In addition, the workpapers and related materials may also be protected by exemption 4 of the FOIA, to the extent such financial information is treated as confidential by the respondent. (5 U.S.C. 552(b)(4)).

Consultation outside the agency: The Board consulted with the FDIC and the Office of the Comptroller of the Currency in regard to these proposed revisions.

Board of Governors of the Federal Reserve System, September 23, 2019.
Michele Taylor Fennell,
Assistant Secretary of the Board.

[FR Doc. 2019-20928 Filed 9-25-19; 8:45 am]

BILLING CODE 6210-01-P